DEPARTMENT OF COMMERCE

National Oceanic and Atmospheric Administration

50 CFR Part 648

[Docket No. 020215032-2127 02; I.D. 092402A]

Fisheries of the Northeastern United States; Atlantic Bluefish Fishery; Readjustment to 2002 Quotas; Commercial Quota Adjustments for Maryland and Virginia

AGENCY: National Marine Fisheries Service (NMFS), National Oceanic and Atmospheric Administration (NOAA), Commerce.

ACTION: Commercial quota adjustments.

SUMMARY: NMFS announces adjustments to the 2002 commercial Atlantic bluefish quota for the States of Maryland and the Commonwealth of Virginia. This action complies with regulations implementing the Fishery Management Plan for Atlantic Bluefish (FMP), which require that landings in excess of a state's commercial quota be deducted from that state's quota the following year. The FMP also allows two or more states, under mutual agreement and with the concurrence of the Administrator, Northeast Region, NMFS (Regional Administrator), to transfer or combine part or all of their annual commercial quota. The Regional Administrator must consider the criteria set forth in § 648.160(f)(1) in the evaluation of requests for quota transfers or combinations. The public is advised that quota adjustments have been made and is informed of the revised quotas for the affected states.

DATES: Effective October 7, 2002 through December 31, 2002.

FOR FURTHER INFORMATION CONTACT: Myles A. Raizin, Fishery Policy Analyst, 978-281-9104.

SUPPLEMENTARY INFORMATION: Regulations implementing Atlantic bluefish management measures are found at 50 CFR part 648, subpart J. The regulations require annual specification of a commercial quota that is apportioned among the Atlantic coastal states from Maine through North Carolina. The process to set the annual commercial quota and the percent allocated to each state is described in § 648.160. The final specifications for the 2001 Atlantic bluefish fishery set a total commercial quota equal to 9.58 million lb (4.35 million kg)(66 FR 23625; May 9, 2001). Maryland and Virginia's quota shares were calculated to be 287,662 lb (130,518 kg) and 1,138,412 lb (516,521 kg), respectively. However, in 2001, both Maryland and Virginia transferred a portion of their quotas to other states, leaving their final adjusted quotas at 87,662 lb (39,774 kg) for Maryland and 738,412 lb (335,033 kg) for Virginia.

Section 648.160(e)(2) provides that all landings in a state shall be applied against that state's annual commercial quota. Any landings in excess of the state's quota must be deducted from that state's annual quota for the following year.

Based on dealer reports and other available information, NMFS has determined that, in 2001, the State of Maryland landed 130,451 lb (59,188 kg) and the Commonwealth of Virginia landed 790,477 lb (358,655 kg) of bluefish causing overages of 42,789 lb (19,414 kg) and 52,065 lb (23,623 kg) for Maryland and Virginia, respectively.

On June 6, 2002, final specifications for the 2002 commercial Atlantic bluefish became effective (67 FR 38909). Total commercial harvest was specified at 10.5 million lb (4.76 million kg). Maryland and Virginia's shares of the quota were 315,189 lb (142,967 kg) and 1,247,348 lb (565,787 kg), respectively. Consistent with the regulations regarding the disposition of overages, the 2002 Atlantic bluefish commercial quota for Maryland is hereby reduced by 42,789 lb (19,414 kg) to 272,400 lb (123,593 kg). The 2002 Atlantic bluefish commercial quota for Virginia is hereby reduced by 52,065 lb (23,623 kg) to 1,195,283 lb (541,833 kg).

Classification

This action is required by 50 CFR part 648 and is exempt from review under Executive Order 12866.

Authority: Authority: 16 U.S.C. 1801 et seq.

Dated: October 1, 2002.
Virginia M. Fay,
Acting Director, Office of Sustainable Fisheries, National Marine Fisheries Service

[FR Doc. 02-25460 Filed 10-7-02; 8:45 am]

BILLING CODE 3510-22-S